DEPARTMENT OF AGRICULTURE

Submission for OMB Review; Comment Request

January 27, 2005.

The Department of Agriculture has submitted the following information collection requirement(s) to OMB for review and clearance under the Paperwork Reduction act of 1995, Public Law 104-13. Comments regarding (a) whether the collection of information is necessary for the proper performance of the functions of the agency, including whether the information will have practical utility; (b) the accuracy of agency's estimate of burden including the validity of the methodology and assumptions used; (c) ways to enhance the quality, utility and clarity of the information be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

30-day Federal Register Notice

Forest Service

Title: Evaluation of the Environment Intervention Handbook.

OMB Control Number: 0596-NEW.

Summary of Collection: The Environmental Intervention Handbook is a tool for resource managers to address depreciative activities in recreation settings. The Forest Service (FS) and university researchers will contact recipients of a handbook designed to help managers reduce depreciative activities. Through those contacts they will evaluate the uses of the handbook, barriers to usage, and the need for the revision of the handbook or creation of supplementary materials. This will help the researchers improve their ability to provide information to natural resource managers on reducing activities like littering, vandalism, and other activities that cause damage. To gather this information, a mini-survey will be sent through the mail to all handbook recipients.

Need and Use of the Information: The information from the survey will be used by FS to evaluate the application and uses of the handbook, the need for revision of the handbook, and the need for additional tools or supplementary information to be used with the handbook. Without the proposed information collection, assessment of how the handbook was used, how well it worked, whether or not we need to revise it, and if we need to provide additional tools will not be known.

Description of Respondents: Individuals or households.

Number of Respondents: 50.

Frequency of Responses: Reporting: On occasion.

Total Burden Hours: 27.

Ruth Brown,
Departmental Information Collection Clearance Officer.

[FR Doc. 05-1797 Filed 1-31-05; 8:45 am]

BILLING CODE 3410-11-M